CONSUMER PRODUCT SAFETY COMMISSION

Sunshine Act Meeting Notice

TIME AND DATE: Wednesday, February 9, 2022, 10-11 a.m.

PLACE: This meeting will be held remotely.

STATUS: Commission Meeting—Open to the Public.

Matters To Be Considered: Briefing Matter: Performance Requirements for Residential Gas Furnaces and Boilers.

All attendees and participants should pre-register online for the Commission meeting at: https://attendee.gotowebinar.com/register/616536172932974863. To pre-register online for the Meeting, please visit: and fill in the information. After registering you will receive a confirmation email containing information about joining the webinar.

CONTACT PERSON FOR MORE INFORMATION: Alberta E. Mills, Office of the Secretary, U.S. Consumer Product Safety Commission, 4330 East-West Highway, Bethesda, MD 20814, 301-504-7479 (Office) or 240-863-8938 (Cell).

Dated: February 2, 2022.
Alberta E. Mills,
Commission Secretary.

[FR Doc. 2022-02556 Filed 2-3-22; 11:15 am]

BILLING CODE 6355-01-P